SMALL BUSINESS ADMINISTRATION

Small Business Investment Company Program: Round Table Meeting With SBIC Limited Partners

AGENCY: U.S. Small Business Administration.

ACTION: Notice of meeting.

SUMMARY: The Small Business Administration (SBA) Office of Investment and Innovation (OII) will hold a round table in Washington, DC with limited partners who currently participate in the Small Business Investment Company (SBIC) program. The purpose of the meeting is for SBA to seek input from SBIC limited partners on regulatory reform and best practices in SBIC selection and monitoring.

DATES: The round table will take place on August 7, 2018 from 1:00 p.m. to 4:00 p.m. Eastern Daylight Time. There will be no telephone call-in for the meeting.

ADDRESSES: The meeting will be held at the Hyatt Place Washington DC/National Mall, 400 E Street SW, Washington, DC 20024. Please note the registration instructions under the SUPPLEMENTARY INFORMATION section of this notice.

FOR FURTHER INFORMATION CONTACT: Steve Knott, SBA Office of Investment and Innovation, (202) 205-7731 or OII.FrontOffice@sba.gov.

SUPPLEMENTARY INFORMATION: SBA's OII, which administers the SBIC program, is working to implement the regulatory reform objectives presented in the President's Executive Orders 13771 and 13777. SBA is reviewing SBIC program regulations and policies in an effort to improve clarity and make the SBIC program more effective and efficient. To seek input and feedback regarding regulatory reform and to identify best practices, SBA will hold a round table with investors who are currently limited partners in SBICs.

One of the primary purposes of the round table will be for SBA to gain a better understanding of any concerns SBIC limited partners have with regards to SBIC program regulations and policies and to share best practices in SBIC selection and monitoring. SBA will primarily be in listening mode, but may ask general questions to help SBA understand SBIC limited partner concerns about specific SBIC regulations and policies. While SBA expects an engaging discussion, please be aware that SBA cannot discuss any specific regulatory or policy changes under consideration, or any general or specific issues related to one or more SBICs.

To receive input and feedback from a broad number of SBIC limited partners, SBA will restrict participation to one employed representative from each organization. Attendance will be limited to the first 20 representatives that register for the round table. SBIC limited partners interested in participating may register at SBA OII Regulatory Reform Round Table for SBIC Limited Partners.

If you have suggested regulatory topics you would like the SBA to consider for discussion at the round table, please email your suggestions to OII.FrontOffice@sba.gov.

Regardless of your round table participation, feedback about the SBIC program may be submitted by emailing SBA at OII.FrontOffice@sba.gov. If you wish to provide comments regarding SBA's regulatory reform effort, then please add “Regulatory Reform” to the subject line of the email.

Dated: June 27, 2018.
A. Joseph Shepard,
Associate Administrator, Office of Investment and Innovation.

[FR Doc. 2018-14449 Filed 7-3-18; 8:45 am]

BILLING CODE 8025-01-P